DEPARTMENT OF TRANSPORTATION

Maritime Administration

[Docket No. MARAD-2026-0232]

Request for Comments on the Renewal of a Previously Approved Information Collection: Requirements for Establishing U.S. Citizenship

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0012, Requirements for Establishing U.S. Citizenship is used to determine if applicants and submitters are eligible to participate in the various programs administered by the agency. MARAD is required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Michael Pucci, 202-366-5167, Division of Maritime Programs, Maritime Administration, 1200 New Jersey Avenue SE, Washington, DC 20590, Email: Michael.Pucci@dot.gov.

SUPPLEMENTARY INFORMATION:

Title: Requirements for Establishing U.S. Citizenship.

OMB Control Number: 2133-0012.

Type of Request: Extension without change of a currently approved collection.

Abstract: MARAD regulations at 46 CFR parts 355 and 356 set forth requirements for establishing U.S. citizenship in accordance with MARAD statutory authority. Those receiving benefits under 46 U.S.C. Chapters 531, 535, and 537 (formerly the Merchant Marine Act, 1936, as amended), or applicants seeking a fishery endorsement eligibility approval pursuant to the American Fisheries Act (AFA) must be citizens of the United States within the meaning of 46 U.S.C. 50501, (formerly Section 2 of the Shipping Act, 1916, as amended). In either case, whether seeking program benefits or fishery endorsement eligibility determinations, Section 50501 sets forth the statutory requirements for determining whether an applicant, be it a corporation, partnership, or association is a U.S. citizen. 46 CFR part 356 is distinguished from 46 CFR part 355 in that Part 356 establishes requirements for U.S. citizenship exclusively in accordance with the AFA, while Part 355 is applied for purposes of establishing citizenship across multiple MARAD programs arising under other statutory authorities. MARAD requires most program participants to submit to MARAD on an annual basis the form of affidavit prescribed by Part 355 or Part 356.

Respondents: Shipowners, charterers, equity owners, ship managers, etc.

Affected Public: Businesses or other-for-profit.

Estimated Number of Respondents: 550.

Estimated Number of Responses: 550.

Estimated Hours per Response: 5.

Annual Estimated Total Annual Burden Hours: 2,750.

Frequency of Response: Annually.

A 60-day Federal Register Notice soliciting comments on this information collection was published on December 16, 2025, 90 Federal Register 58367.

(Authority: The Paperwork Reduction Act of 1995; 44 U.S.C. Chapter 35, as amended; and 49 CFR 1.49.)

By Order of the Maritime Administrator.
T. Mitchell Hudson, Jr.
Secretary, Maritime Administration.

[FR Doc. 2026-03677 Filed 2-23-26; 8:45 am]

BILLING CODE 4910-81-P